DEPARTMENT OF HEALTH AND HUMAN SERVICES

Centers for Disease Control and Prevention

[30 Day-09-09BU]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

National Adult Tobacco Survey (NATS)—New—Office on Smoking and Health, National Center for Chronic Disease Prevention and Health Promotion (NCCDPHP), Centers for Disease Control and Prevention (CDC).

Background and Brief Description

Tobacco use remains the leading preventable cause of disease and death in the United States. Although the prevalence of current smoking among adults decreased significantly from 1998 to 2007 in 44 states, the District of Columbia, and Puerto Rico, only one State and one territory have met Healthy People 2010 targets for reducing adult smoking prevalence to 12%, and six States have shown no substantial changes in prevalence after controlling for age, sex, and race/ethnicity.

CDC proposes to conduct the National Adult Tobacco Survey (NATS) in 2009-2010 to help evaluate and improve the effectiveness of CDC's National Tobacco Control Program (NTCP). The NATS will be a one-time, stratified, random-digit dialed telephone survey of non-institutionalized adults 18 years of age and older. Essential information will be collected on key indicators from each of the NTCP's four goal areas: (1) The prevention of initiation of tobacco use among young people, (2) the elimination of nonsmokers' exposure to secondhand smoke, (3) the promotion of quitting among adults and young people, and (4) the elimination of tobacco-related disparities.

In order to yield results that are representative and comparable at both national and state levels, information will be collected from approximately 1,863 land-line telephone users in each state and the District of Columbia. In addition, a total of approximately 3,000 interviews will be conducted from a national sample of cell phone users to include the growing population of households that rely exclusively on cell phones. All interviews will be conducted using computer-assisted telephone interview (CATI) methodology.

Survey results will be used to develop estimates of tobacco use at the national level by gender and race/ethnicity and to evaluate comprehensive Tobacco Control Programs. Study results will have significant implications for the development of policies and programs aimed at preventing or reducing tobacco use. There are no costs to respondents except their time. The estimated annualized burden hours are 38,303.

Estimated Annualized Burden Hours
Type of respondent | Form name | Number of respondents | Number of responses per respondent | Average burden per response (in hours)
Adults ages 18 or older | Screener for land-line users (pp 11-18 of the NATS) | 166,273 | 1 | 2/60
| Screener for cell phone users (pp 2-11 of the NATS) | 5,400 | 1 | 1/60
| National Adult Tobacco Survey (pp 19-92 of the NATS)—landline | 95,013 | 1 | 20/60
| National Adult Tobacco Survey (pp 19-92 of the NATS)—cell phone | 3,000 | 1 | 20/60

Dated: August 26, 2009.
Maryam I. Daneshvar,
Acting Reports Clearance Officer, Centers for Disease Control and Prevention.

[FR Doc. E9-21043 Filed 8-31-09; 8:45 am]

BILLING CODE 4163-18-P